DEPARTMENT OF COMMERCE

National Oceanic and Atmospheric Administration

[I.D. 101504D]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Scallop Oversight Committee in November 2004. Recommendations from the committee will be brought to the full Council for formal consideration and action, if appropriate.

DATES: The meeting will held on Thursday, November 4, 2004, at 9:30 a.m.

ADDRESSES: The meeting will be held at the Comfort Inn, 1940 Post Road, Warwick, RI 02886; telephone: (401) 732-0470.

Council address: New England Fishery Management Council, 50 Water Street, Newburyport, MA 01950.

FOR FURTHER INFORMATION CONTACT: Paul J. Howard, Executive Director, New England Fishery Management Council; telephone: (978) 465-0492.

SUPPLEMENTARY INFORMATION: The Scallop Oversight Committee will consider options and recommend alternatives for Framework Adjustment (FW) 17 that would require some or all vessels with general category scallop permits to operate vessel monitoring system (VMS) equipment. The recommendations would be approved by the Council at its November 16-18, 2004 meeting, followed by a final framework meeting on February 1-3, 2005.

In addition, the Plan Development Team and Advisory Panel will brief the committee about preliminary work on the 2005 Stock Assessment and Fishery Evaluation Report. The final report is scheduled for presentation to the Council in September 2005. Planning issues related to FW 17 (general category VMS) or FW 18 (biennial specifications and adjustments) may also be discussed. The committee meeting will conclude with a closed-door session to review Advisory Panel applications and discuss appointment recommendations. These recommendations will be presented to the Council's Executive Committee at its next meeting.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting date.

Dated: October 18, 2004.
Alan D. Risenhoover,
Acting Director, Office of Sustainable Fisheries, National Marine Fisheries Service.

[FR Doc. E4-2782 Filed 10-20-04; 8:45 am]

BILLING CODE 3510-22-S